BUREAU OF CONSUMER FINANCIAL PROTECTION

Proposed Collection; Comment Request

AGENCY: Bureau of Consumer Financial Protection.

ACTION: Notice and request for comments.

SUMMARY: The Bureau of Consumer Financial Protection (Bureau), as part of its continuing effort to reduce paperwork and respondent burden, invites the general public and other Federal agencies to take this opportunity to comment on proposed and/or continuing information collections, as required by the Paperwork Reduction Act of 1995. Currently, the Bureau is soliciting comments concerning the information collection efforts relating to the qualitative testing mortgage servicing related model forms and disclosures.

DATES: Written comments must be received on or before July 10, 2012 to be assured of consideration.

ADDRESSES: You may submit comments by any of the following methods:

• Electronic: CFPB_Public_PRA@cfpb.gov.

• Mail/Hand Delivery/Courier: Direct all written comments to Consumer Financial Protection Bureau, (Attention: PRA Office), 1700 G Street NW., Washington, DC 20552.

Instructions: Comments will be available for public inspection and copying at 1700 G Street NW., Washington, DC 20552 on official business days between the hours of 10 a.m. and 5 p.m. Eastern Time. You can make an appointment to inspect comments by telephoning (202) 435-7275. All comments, including attachments and other supporting materials, will become part of the public record and subject to public disclosure. You should only submit information that you wish to make available publicly.

FOR FURTHER INFORMATION CONTACT: Requests for additional information or copies of the documents contained under this approval number should be directed to Joseph Durbala, (202) 435-7893, at the Consumer Financial Protection Bureau, (Attention: Joseph Durbala, PRA Office), 1700 G Street NW., Washington, DC 20552, or through the Internet at CFPB_Public_PRA@cfpb.gov.

SUPPLEMENTARY INFORMATION:

Title: Qualitative Testing of Mortgage Servicing Related Model Forms and Disclosures.

OMB Number: 3170-0018.

Abstract: The Bureau seeks to allow for qualitative testing of mortgage servicing related model forms and disclosures. The research will result in the development of, and revisions to, proposed and final model forms and disclosures provided to consumers in connection with mortgage loan obligations after origination. The research activities will be conducted primarily by an external contractor employing cognitive psychological testing methods. This approach has been demonstrated to be feasible and valuable by the CFPB and other agencies in developing disclosures and other forms. The planned research activities will be conducted during FY 2012-2013 with the goal of creating effective disclosures and related materials for consumers regarding mortgage loan obligations after origination.

Current Actions: There is no change in the paperwork burden previously approved by OMB. This form is being submitted for renewal purposes only.

Type of Review: Extension of a currently approved collection.

Affected Public: Individuals and Households.

Estimated Number of Responses: 396.

Estimated Time per Respondent: 16 minutes.

Estimated Total Annual Burden Hours: 108.

The following paragraph applies to all of the collections of information covered by this notice:

An agency may not conduct or sponsor, and a person is not required to respond to, a collection of information unless the collection of information displays a valid OMB control number.

Request for Comments: Comments submitted in response to this notice will be summarized and/or included in the request for OMB approval. All comments will become a matter of public record. Comments are invited on: Whether the collection of information is necessary for the proper performance of the functions of the agency, including whether the information shall have practical utility; the accuracy of the agency's estimate of the burden of the collection of information, including the validity of the methodology and the assumptions used; ways to enhance the quality, utility, and clarity of the information to be collected; and ways to minimize the burden of the collection of information on respondents, including through the use of automated collection techniques or other forms of information technology.

Dated: May 2, 2012.
Chris Willey,
Chief Information Officer, Bureau of Consumer Financial Protection.

[FR Doc. 2012-11369 Filed 5-10-12; 8:45 am]

BILLING CODE 4810-AM-P